DEPARTMENT OF THE INTERIOR

Bureau of Reclamation

Amendment to Contract No. I75r-3401A—Contra Costa Water District

AGENCY: Bureau of Reclamation, Interior.

ACTION: Notice.

SUMMARY: Notice is hereby given on the action to amend Contract No. I75r-3401A dated February 7, 2000, with Contra Costa Water District, Central Valley Project, California, to extend the time for renegotiation of the provisions of Article 12 entitled Water Shortage and Apportionment until after finalization of the CVP M&I Water Shortage Policy, but no later than February of 2002. Negotiations are scheduled to begin September 2000. This amendment will be negotiated pursuant to the Act of June 17, 1902 (32 Stat. 388), the Act of August 26, 1937 (50 Stat. 844) as amended, the Act of August 4, 1939 (53 Stat. 1187) as amended, the Act of October 12, 1982 (96 Stat. 1263) as amended, and the Central Valley Project Improvement Act, Title XXXIV, of Pub. L. 102-575.

FOR FURTHER INFORMATION CONTACT: Ms. Angela Slaughter, Repayment Specialist, Bureau of Reclamation, Mid-Pacific Region, 2800 Cottage Way, Sacramento, California 95825-1898; telephone 916-978-5252.

Dated: August 18, 2000.
Donna E. Tegelman,
Regional Resources Manager.

[FR Doc. 00-21840 Filed 8-25-00; 8:45 am]

BILLING CODE 4310-MN-P